FEDERAL COMMUNICATIONS COMMISSION

Deletion of Items From Sunshine Act Meeting

December 14, 2016.

The following Agenda items have been deleted from the list of items scheduled for consideration at the Thursday, December 15, 2016, Open Meeting and previously listed in the Commission's Notice of December 8, 2016. Items 3. 4, 5, 6, have been adopted by the Commission.

* * * * *

2 | Public Safety & Homeland Security | Title: Amendment of Part 11 of the Commission's Rules Regarding the Emergency Alert System (PS Docket No. 15-94).
|  | Summary: The Commission will consider a Report and Order and Further Notice of Proposed Rulemaking to enhance the Emergency Alert System (EAS) as a tool for community emergency preparedness. The Report and Order improves alerting organization at the state and local levels, builds stronger community-based alerting exercise programs, and protects the EAS against accidental misuse and malicious intrusion. The Further Notice seeks comment on proposals to leverage technological advances to improve alerting and additional measures to preserve EAS security.
3 | International | Title: Update to Parts 2 and 25 Concerning Non-geostationary, Fixed Satellite Service Systems and Related Matters.
|  | Summary: The Commission will consider a Notice of Proposed Rulemaking to update, clarify, and streamline the Commission's rules to facilitate the deployment of recently proposed non-geostationary-satellite orbit, fixed-satellite service satellite systems.
4 | General Counsel | Title: Amendment of Part 0 of the Commission's Rules Regarding Public Information, the Inspection of Records, and Implementing the Freedom of Information Act.
|  | Summary: The Commission will consider an Order that updates its Freedom of Information Act (FOIA) regulations consistent with the FOIA Improvement Act of 2016.
5 | Wireless Telecommunications | Title: Maritime Communications/Land Mobile, LLC, Order on Reconsideration and Memorandum Opinion and Order.
|  | Summary: The Commission will consider an Order on Reconsideration and Memorandum Opinion and Order regarding the assignment of licenses held by Maritime Communications/Land Mobile, LLC.
6 | Public Safety & Homeland Security | Title: Improving the Resiliency of Mobile Wireless Communications Networks, (PS Docket 13-239); Reliability and Continuity of Communications Networks, Including Broadband Technologies (PS Docket No. 11-60).
|  | Summary: The Commission will consider an Order that evaluates the Wireless Network Resiliency Cooperative Framework submitted by members of the wireless industry.
7 | Enforcement | Title: Preferred Long Distance, Inc., Memorandum Opinion & Order.
|  | Summary: The Commission will consider a Memorandum Opinion and Order that addresses a Petition for Reconsideration of a Forfeiture Order issued by the Commission for slamming and deceptive marketing.

The following Consent Agenda item has been deleted from the list of items scheduled for consideration at the Thursday, December 15, 2016, Open Meeting and previously listed in the Commission's Notice of December 8, 2016.

* * * * *

Consent Agenda
5 | Consumer & Governmental Affairs | Title: Ministry of Communications of the Archdiocese of Miami, FL; Closed Captioning Petitions for Waiver; Application for Review.
|  | Summary: The Commission will consider a Memorandum Opinion and Order addressing an Application for Review seeking review of the Bureau's dismissal of the Ministry's petition for exemption from the Commission's closed captioning requirements.

Federal Communications Commission.
Marlene H. Dortch,
Secretary.

[FR Doc. 2016-30900 Filed 12-19-16; 4:15 pm]

BILLING CODE 6712-01-P